DEPARTMENT OF TRANSPORTATION

Federal Aviation Administration

14 CFR Part 39

[Docket No. FAA-2006-24825; Directorate Identifier 2006-NE-17-AD; Amendment 39-15623; AD 2008-16-05]

RIN 2120-AA64

Airworthiness Directives; Rolls-Royce Deutschland Ltd & Co KG (RRD) Dart 528, 529, 532, 535, 542, and 552 Series Turboprop Engines; Correction

AGENCY: Federal Aviation Administration (FAA), DOT.

ACTION: Final rule; correction.

SUMMARY: The FAA is correcting airworthiness directive (AD) 2008-16-05. That AD applies to RRD Dart 528, 529, 532, 535, 542, and 552 Series turboprop engines. We published that AD in the Federal Register on July 31, 2008 (73 FR 44630). The superseded AD number in paragraph (b) in the regulatory section is incorrect. This document corrects that superseded AD number. In all other respects, the original document remains the same.

DATES: Effective Date: Effective October 6, 2008.

FOR FURTHER INFORMATION CONTACT: Jason Yang, Aerospace Engineer, Engine Certification Office, FAA, Engine and Propeller Directorate, 12 New England Executive Park, Burlington, MA 01803; e-mail: jason.yang@faa.gov; telephone (781) 238-7747; fax (781) 238-7199.

SUPPLEMENTARY INFORMATION: On July 31, 2008 (73 FR 44630), we published a final rule AD, FR Doc, E8-17423, in the Federal Register. That AD applies to RRD Dart 528, 529, 532, 535, 542, and 552 Series turboprop engines. We need to make the following correction:

§ 39.13 [Corrected]

On page 44631, in the second column, in paragraph (b) of the regulatory section, “2007-02-17” is corrected to read “2007-02-07”.

Issued in Burlington, Massachusetts, on September 29, 2008.
Thomas A. Boudreau,
Acting Manager, Engine and Propeller Directorate, Aircraft Certification Service.

[FR Doc. E8-23511 Filed 10-3-08; 8:45 am]

BILLING CODE 4910-13-P